INTERNATIONAL BOUNDARY AND WATER COMMISSION, UNITED STATES AND MEXICO

United States Section; Notice of Availability of a Final Environmental Assessment and Finding of No Significant Impact for Emergency Repairs to the Presidio Flood Control Project in Presidio, TX

AGENCY: United States Section, International Boundary and Water Commission, United States and Mexico.

ACTION: Notice of Availability of the Final Environmental Assessment (EA) and Finding of No Significant Impact (FONSI).

SUMMARY: Pursuant to Section 102(2)(c) of the National Environmental Policy Act of 1969; the Council on Environmental Quality Final Regulations (40 CFR Parts 1500 through 1508); and the United States Section, Operational Procedures for Implementing Section 102 of NEPA, published in the Federal Register September 2, 1981, (46 FR 44083); the United States Section hereby gives notice that the Final Environmental Assessment and Finding of No Significant Impact for Emergency Repairs to the Presidio Flood Control Project in Presidio, Texas are available. A notice of finding of no significant impact dated April 2, 2009, provided a thirty (30) day comment period before making the finding final. The Notice was published in the Federal Register on April 2, 2009 (Federal Register Notice, Vol. 74, No. 62, Page 14999).

FOR FURTHER INFORMATION CONTACT: Daniel Borunda, Environmental Protection Specialist; Environmental Management Division; United States Section, International Boundary and Water Commission; 4171 N. Mesa, C-100; El Paso, Texas 79902. Telephone: (915) 832-4767, e-mail: danielborunda@ibwc.gov.

Background: The USIBWC operates and maintains the Presidio Flood Control Project (FCP) located along the Rio Grande within the city of Presidio, Texas. The FCP extends approximately 15.2 miles, from Haciendita, upstream of the Rio Conchos confluence, and ending downstream of Presidio near Brito Creek. In September and October 2008, the Presidio FCP levees sustained major flood damage from overtopping, under-seepage, and erosion. The USIBWC intends to repair a 3000-foot section of levee near Station 7+000 that is susceptible to under-seepage and possible levee failure. The USIBWC will remediate the levee failure by constructing a slurry-trench cut-off wall. Recent geotechnical evaluations have identified this reach as requiring immediate attention in order to provide flood control protection to the city of Presidio in preparation of the regional 2009 monsoon season.

Availability: Electronic copies of the Final EA and FONSI are available from the USIBWC Home Page at http://www.ibwc.state.gov.

Dated: May 4, 2009.
Robert McCarthy,
General Counsel.

[FR Doc. E9-10942 Filed 5-8-09; 8:45 am]

BILLING CODE 7010-01-P